DEPARTMENT OF TRANSPORTATION

Public Availability of the Department of Transportation FY 2010 Service Contract Inventory

AGENCY: Department of Transportation.

ACTION: Notice of Public Availability of FY 2010 Service Contract Inventories.

SUMMARY: In accordance with Section 743 of Division C of the Consolidated Appropriations Act of 2010 (Pub. L. 111-117, Department of Transportation is publishing this notice to advise the public of the availability of the FY 2010 Service Contract Inventory. This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. Department of Transportation has posted its inventory and a summary of the inventory on the Department of Transportation's homepage at the following link: http://www.dot.gov/ost/m60/serv_contract_inv.htm.

FOR FURTHER INFORMATION CONTACT: Questions regarding the service contract inventory should be directed to Ames Owens in the Senior Procurement Executive office at 202-366-9614 or ames.owens@dot.gov.

Dated: January 28, 2011.
Ames Owens,
Associate Director of Commercial Services.

[FR Doc. 2011-2365 Filed 2-2-11; 8:45 am]

BILLING CODE P